DEPARTMENT OF DEFENSE

Department of the Navy

Record of Decision for Disposal and Reuse of the Naval Air Station, South Weymouth, MA

AGENCY: Department of the Navy, DOD.

ACTION: Notice of record of decision.

SUMMARY: The Department of the Navy announces its decision to dispose of the Naval Air Station (NAS), in South Weymouth, MA, in a manner consistent with the Final Reuse Plan adopted by the South Shore Tri-Town Development Corporation (SSTTDC).

SUPPLEMENTARY INFORMATION: Under the authority of the Defense Authorization Amendments and Base Closure and Realignment Act, Public Law 100-526, 10 U.S.C. section 2687 note (1994), pursuant to section 102(2)(C) of the National Environmental Policy Act (NEPA) of 1969, and the Council on Environmental Quality Regulations for implementing NEPA procedures (40 CFR parts 1500-1508), the Department of the Navy (Navy) announces its decision to dispose of NAS South Weymouth in a manner consistent with the Final Reuse Plan adopted by the South Shore Tri-Town Development Corporation.

The disposal and subsequent reuse of this property will be in accordance with the preferred alternative as described in the Final Environmental Impact Statement (FEIS).

Background: NAS South Weymouth is situated on 1,450 acres in the towns of Weymouth (Norfolk County), Abington and Rockland (Plymouth County) approximately 15 miles south of the capital city of Boston. The site contains two runways and 85 buildings providing nearly 600,000 square feet of space. Approximately 45 acres of property with 165 units of housing have been transferred to the U.S. Coast Guard (USCG). Another 4.8 acre parcel has been transferred to the USCG for continued operation of their buoy maintenance and storage program. A half-acre parcel with Doppler radar equipment has been transferred to the Federal Aviation Administration.

In addition to the main station, two non-contiguous sites were also controlled by NAS South Weymouth: the Squantum Gardens and Naval Terrace housing areas consisting of 27 acres located in Quincy, MA, and Nomans Land Island, 628 acres about three miles south of Martha's Vineyard. A separate Environmental Assessment was prepared for the disposal and reuse of Squantum Gardens and Naval Terrace housing areas and these properties have been transferred to the City of Quincy. Nomans Land Island, a former Naval bombing range, has been transferred to the U.S. Department of the Interior. These land holdings are not part of this Record of Decision.

Alternatives Considered: The proposed action is the disposal of the NAS South Weymouth property and the subsequent reuse in a manner consistent with the Final Reuse Plan as adopted by the SSTTDC. The FEIS analyzed the effects of the Preferred Reuse Plan, as well as the effects of two other reuse plan alternatives.

The Preferred Reuse Plan proposes a mix of business (office, research and development (R&D), manufacturing, and industrial), retail, residential, institutional, recreational, open space, and infrastructure uses. A total of about 3.6 million square feet of new and existing buildings would provide employment opportunities for about 9,540 workers. Approximately 500-700 units of senior housing would provide housing for 1,140 senior citizens. A new access road, referred to as the Route 3 access roadway, would be necessary to accommodate the increased traffic. This access roadway would connect Route 3 to Route 18 transiting through the NAS South Weymouth. Full build-out of the NAS South Weymouth property under the Preferred Reuse Plan would occur over a 20-year period.

The Environmental Impact Statement (EIS) evaluated the development of NAS South Weymouth under a more intensive reuse plan identified as the New South Shore Community Alternative. Under this plan, there would be about 3 million square feet of business/R&D space; 150,000 square feet of retail space; 1400 housing units; 60 acres set-aside for government or institutional use; and recreational and open space. The Route 3 access roadway would also be constructed under this alternative. This development would provide employment opportunities for about 12,400 workers.

The EIS evaluated a third reuse plan that would be the least intensive of the three alternatives. The Minimal Investment Alternative would provide 610,000 square feet for business/R&D use; 150,000 square feet of retail space; 930 family housing units; 60 acres for government or instutitional use; and recreational and open space. The Route 3 access roadway also be constructed under this alternative. This alternative would provide housing for about 3,000 persons and job opportunities for approximately 3,800 employees.

Under the No Action Alternative, the NAS South Weymouth property would remain in U.S. Government ownership. The property would be placed in Federal caretaker status with the Navy maintaining the physical condition of the property, providing a security force, and making repairs essential to safety.

Environmental Impacts of the Preferred Alternative: The FEIS analyzed the direct, indirect and cumulative environmental impacts of the Preferred Reuse Plan. Redevelopment of the property will generate an estimated 9,540 new jobs, resulting in beneficial socioeconomic impacts. Annual estimated earnings of these jobs would be about $305 million. Other employment occurring in the region as a result of the new development on the NAS South Weymouth property is estimated at 8,000 new jobs providing an additional $257 million in earnings. As the property is transitioned to private ownership, and thereby subject to local real estate taxes, the estimated tax generated would be about $10 million.

The Preferred Reuse Plan would construct up to 700 units of senior housing providing homes for about 1,140 senior citizens. Since the new housing population would be limited to seniors and the new workers at the NAS South Weymouth site are expected to commute from elsewhere in the region, the local school systems will not be significantly impacted. Even if there is worker migration into the area, local school systems have sufficient capacity to accommodate any corresponding increase in student enrollment. There will be additional demands on community support services such as police, fire, and emergency care. It is expected that this need would increase gradually over several years. The Preferred Reuse Plan provides for additional property tax revenue to support increased service costs.

The Preferred Reuse Plan would generate 32,600 average daily weekday (one way) trips. This new traffic is expected to cause significant degraded levels of service at several intersections in the vicinity of the NAS South Weymouth site. State and local governments will need to make intersection and roadway improvements to mitigate the impacts of the increased traffic. In order to minimize traffic impacts, the Board of Directors of the SSTTDC has endorsed the Preferred Reuse Plan on the following guidelines: redevelopment would be staged over a period of ten or more years; development would occur as infrastructure impacts are addressed and mitigation measures are put in place; and the scope and mix of development would be as defined in the Preferred Reuse Plan.

The Clean Air Act General Conformity rule is not applicable to the disposal of the NAS South Weymouth property as stated in 40 CFR Part 153(c), exemptions (XIV) and (XIX). While there will be an increase in carbon monoxide emissions due to the increase in traffic, the increase in carbon monoxide will not be significant since the levels will remain below the National Ambient Air Quality Standards.

Noise level increases off-base due to additional traffic would be less than three decibels, a generally accepted level of perceptible change. A noise level increase greater than three decibels would occur on the redeveloped Shea Memorial Drive due to the additional traffic. However these higher noise levels will not exceed the Federal Highway Administration (FHWA) standards for residential property located in the surrounding area. With respect to the Route 3 access roadway, lands within 180 feet of the road centerline would experience noise levels significantly above the FHWA standards for land uses such as schools, churches, and residences.

Projected infrastructure impacts, such as water supply, wastewater, stormwater system, electric, gas, steam, and telecommunications, were examined in the FEIS for the Preferred Reuse Plan. SSTTDC is investigating the following water supply sources: Groundwater from aquifers underlying the site; surplus water from local communities; the Bluestone Desalination Project; and, water from the Massachusetts Water Resource Authority (MWRA). The demand for utility services will grow as the site is developed over a 20-year period. This will provide time for coordination between SSTTDC, local towns and authorities to develop infrastructure capacity in sequence with the project.

There are no buildings, structures or districts that are eligible for listing on the National Register of Historic Properties at NAS South Weymouth. The majority of NAS South Weymouth's ground surface has been highly disturbed through previous development. The Massachusetts Historical Commission determined that closure/realignment of NAS South Weymouth would be unlikely to affect significant archaeological resources.

Implementation of the Preferred Reuse Plan would result in a loss of vegetation and habitat. Wetlands are located on the site and may be impacted by new development. However, any new construction that may impact wetlands must comply with appropriate Federal and state regulations governing development in or near wetlands. The groundwater beneath NAS South Weymouth property is not currently used for water supply purposes. This on-site aquifer may be utilized in the future to meet the potable water supply demands of the Preferred Reuse Plan.

No Federally listed threatened or endangered species are known to inhabit the NAS South Weymouth property, thus no significant impacts on those species are anticipated.

There will be no significant impacts associated with existing hazardous waste sites. Transfer of Navy property must include a determination of the environmental suitability of the land for transfer to a non-Federal agency or to the public. Early transfer of Navy property before the property is environmentally suitable may also occur as authorized under the Comprehensive Environmental Response, Compensation, and Liability Act of 1980 (CERCLA).

The Navy analyzed the direct and indirect effects of the proposed conveyance and reuse on low income and minority populations. The conveyance and reuse will not cause adverse and disproportionately high environmental or economic impacts to minority or low-income populations residing in the region.

Mitigation: Implementation of the decision to transfer Navy property does not require the Navy to perform any mitigation measures. No mitigation is required for direct impacts associated with conveyance of the property. Reuse will result in indirect impacts that can be mitigated through measures taken directly by state and local governments or imposed on the SSTTDC through state and local permitting processes.

Reuse will cause significant traffic impact at various intersections in the study area surrounding NAS South Weymouth. Potential mitigation measures may include changing of traffic signal timing and/or geometric improvements. These measures could be implemented by the state, Norfolk and/or Plymouth Counties or the SSTTDC proposing redevelopment at NAS South Weymouth.

With respect to the Route 3 Access Roadway, noise levels are predicted to exceed the FHWA Noise Abatement Criterion. Potential mitigation measures include the installation of noise barriers along the Route 3 Access Roadway and placing a Category B land use restriction within the area of potential impact.

Implementation of the Preferred Reuse Plan without the expansion of the existing water supply/distribution and wastewater infrastructure would result in a significant adverse impact. The SSTTDC has identified the following potential alternative sources of water: groundwater from aquifers underlying the site; surplus water from local communities; the Bluestone Desalination Project; and water from the MWRA. The SSTTDC has identified the following potential alternatives for treatment of wastewater flows generated by redevelopment of NAS South Weymouth: local municipal facilities; on-site treatment and land disposal; and MWRA. The viability of any potential water supply or wastewater system enhancement would be dependent upon coordination among local towns, authorities, and the SSTTDC.

The Preferred Reuse Plan would affect on-site wetlands and their buffers. Any disturbance to wetlands would require compliance with the Massachusetts Wetlands Protection Act by the acquiring entity.

Comments Received on the FEIS: The Navy received eight comment letters on the FEIS, including the U.S. Environmental Protection Agency (EPA); the Commonwealth of Massachusetts Department of Food and Agriculture; the Massachusetts Highway Department (MHD); the Town of Weymouth, MA; and four private citizens. U.S. EPA reiterated their concerns on the impacts to water supplies and quality, wetlands, local roadway network and air quality, as previously provided in their comments on the draft DEIS. Additionally, EPA emphasized that the redevelopment benefit and not the burden of surrounding communities be based on the principles of smart growth, and be supported by local infrastructure. In response to these concerns, the Navy notes that the responsibility to develop the reuse plan is the local reuse authority.

The Massachusetts Department of Food and Agriculture requested that the prime agricultural land and soils on the NAS South Weymouth remain available for the production of agricultural crops. While the Navy will not place land use restrictions on the transfer of the property, the SSTTDC has committed to resolve or mitigate adverse impacts to agricultural resources through the Massachusetts Environmental Policy Act process.

The MHD provided comments with regard to a traffic study prepared for the MHD by Wilbur Smith Associates and referenced in the FEIS. This study, entitled the South Weymouth Access Study, was prepared for the Final Reuse Plan and while its conclusions were similar to the findings of the FEIS, the MHD noted that there were some differences in the Access Study and the FEIS. Among their comments, the MHD noted that while the FEIS reported that the MHD would be responsible for the planning, funding, design, and construction of the Route 3 access road, no such determination of this responsibility has been made. The Navy acknowledges that there are differences in the traffic studies prepared for the FEIS and by the MHD; however, the overall findings of traffic impacts expressed in the FEIS are considered valid.

The Town of Weymouth stated its concerns over the ongoing Installation Restoration Program and requested that the Navy remain committed to the thorough cleanup of all identified contaminants on the NAS South Weymouth site. The Navy acknowledges its responsibility for the timely completion of the ongoing site remediation process that will be defined in South Weymouth CERCLA RODs.

Comments received from private citizens expressed concern with regard to traffic, air, noise, infrastructure, land use, and terrestrial and aquatic environmental impacts due to the development and reuse of NAS South Weymouth. Additionally, comments expressed concern over the ongoing site remediation program. These issues were addressed in the FEIS and do not require further clarification.

Conclusion: The Preferred Reuse Plan adopted by the SSTTDC was identified by popular vote of the residents of the local communities as the plan that best responds to local and regional economic conditions and promotes economic recovery from the closure of NAS South Weymouth. The Preferred Reuse Plan complies with the conditions imposed by Congress on the conveyance of the NAS South Weymouth property. Potentially significant environmental impacts associated with implementation of the Preferred Reuse Plan can be mitigated either directly by the state and local governments or indirectly through the regulatory authorities exercised by the state and local governments over private landowners and developers. Although the “no action” alternative has less potential for adverse environmental impacts and is the environmentally preferred alternative, it would not promote local economic redevelopment and create jobs. Keeping the property in caretaker status would not be the highest and best use of the property because it would not take advantage of the property's physical characteristics and infrastructure.

Based on the analysis contained in the FEIS and the associated administrative record, I have decided to convey the Naval Air Station in South Weymouth, MA, in a manner that is consistent with the reuse plan adopted by the South Shore Tri-Town Development Corporation, as provided for in the Defense Authorization Act for fiscal year 1994.

Dated: April 11, 2002.
Duncan Holaday,
Deputy Assistant Secretary, (Installations and Facilities).

[FR Doc. 02-10030 Filed 4-23-02; 8:45 am]

BILLING CODE 3810-FF-M